DEPARTMENT OF AGRICULTURE

Commodity Credit Corporation

Request for Revision and Extension of a Currently Approved Information Collection: Commodity Offer Forms

AGENCY: Commodity Credit Corporation, USDA.

ACTION: Notice; request for comments.

SUMMARY: In accordance with the Paperwork Reduction Act of 1995, the Commodity Credit Corporation (CCC) is seeking comments from all interested individuals and organizations on an extension with revision of a currently approved information collection. This information collection is necessary to support the procurement of agricultural commodities for domestic and export food donation programs. CCC issues invitations to purchase or process commodities for food donation programs on a monthly, multi-month, quarterly, and yearly basis. Special invitations, however, are issued throughout the month.

DATES: Comments on this notice must be received on or before June 2, 2008 to be assured consideration.

ADDRESSES: We invite you to submit comments on this notice. In your comment, include date, and page number of this issue of the Federal Register. You may submit comments by any of the following methods:

E-mail: Send comments to: khristy.baughman@kcc.usda.gov.

Fax: (816) 926-1648.

Mail: Khristy Baughman, Chief, Business Operations Support Division, Kansas City Commodity Office (KCCO), P.O. Box 419205, Kansas City, Missouri 64141-0205.

Comments also should be sent to the Office of Information and Regulatory Affairs, Office of Management and Budget, Desk Officer for USDA, Washington, DC 20503.

FOR FURTHER INFORMATION CONTACT: Khristy Baughman, Chief, Business Operations Support Division, phone (816) 926-12001.

SUPPLEMENTARY INFORMATION:

Title: Offer Forms.

OMB Number: 0560-0177.

Expiration Date: 9/30/2008.

Type of Request: Extension with revision of a currently approved information collection.

Abstract: The United States donates agricultural commodities domestically and overseas to meet famine or other relief requirements, to combat malnutrition, and sells or donates commodities to promote economic development. CCC issues invitations to purchase or sell agricultural commodities and services for use in domestic and export programs. Vendors respond by making offers using various CCC commodity offer forms. The Export Offer forms and the Annual Certification are prepared and received electronically through the Electronic Bid Entry System (EBES). Most of the Domestic Offer forms (KC-327) are prepared and received electronically through the Domestic Bid Entry System (DEBES) via the Internet. Vendors can access EBES or DEBES on-line to see the date/time the system shows for receipt of bid, bid modification, or bid cancellation. At bid opening date/time, the bids are system evaluated. Acceptance wires are sent to the successful offerors. Awarded contracts are posted on our Web site.

Estimate of Burden: Public reporting burden for collecting information under this notice is estimated to average 15-30 minutes per response, including the time for reviewing instructions, searching existing data sources, gathering and maintaining the data needed, and completing and reviewing the collection of information.

Respondents: Business and other for-profit organizations.

Respondents: 949.

Estimated Number of Annual Responses per Respondent: 21,748.

Estimated Total Annual Burden on Respondents: 3,342 hours.

Comments are invited on:

(1) Whether the collection of information is necessary for the proper performance of the functions of the agency, including whether the information will have practical utility;

(2) The accuracy of the agency's estimate of burden including the validity of the methodology and assumptions used;

(3) Enhancing the quality, utility and clarity of the information collected; or

(4) Minimizing the burden of the collection of the information on those who are to respond, including through the use of appropriate automated, electronic, mechanical, or other technological collection techniques or other forms of information technology.

All responses to this notice, including names and addresses when provided, will be a matter of public record. Comments will be summarized and included in the submission for Office of Management and Budget approval.

Signed at Washington, DC, on March 27, 2008.
Glen L. Keppy,
Executive Vice President, Commodity Credit Corporation.

[FR Doc. E8-6720 Filed 4-1-08; 8:45 am]

BILLING CODE 3410-05-P